DEPARTMENT OF COMMERCE

National Oceanic and Atmospheric Administration

Proposed Information Collection; Comment Request; Vessel Monitoring System Requirements in Western Pacific Pelagic and Bottomfish Fisheries

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before September 24, 2010.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument and instructions should be directed to Walter Ikehara, (808) 944-2275 or Walter.Ikehara@noaa.gov.

SUPPLEMENTARY INFORMATION:

I. Abstract

This request is for a revision of a currently approved information collection. As part of fishery management plans developed under the authority of the Magnuson-Stevens Fishery Conservation and Management Act (MSA), owners of commercial fishing vessels in the Hawaii pelagic longline fishery, American Samoa pelagic longline fishery (only vessels longer than 50 feet), and Northern Mariana Islands bottomfish fishery (only vessels longer than 40 feet) must allow the National Oceanic and Atmospheric Administration (NOAA) to install vessel monitoring system (VMS) units on their vessels when directed to do so by NOAA enforcement personnel. VMS units automatically send periodic reports on the position of the vessel. NOAA uses the reports to monitor the vessel's location and activities, primarily to enforce regulated fishing areas. NOAA pays for the units and messaging. There is no public burden for the automatic messaging; however, VMS installation and annual maintenance are considered public burden.

This request combines three OMB approved collections for VMS requirements, OMB Control No. 0648-0441 (Vessel Monitoring System Requirements in the Western Pacific Pelagic Longline Fishery), OMB Control No. 0648-0519 (Vessel Monitoring System Requirement for American Samoa Pelagic Longline Fishery), and the VMS requirement from OMB Control No. 0648-0584 (Permitting, Vessel Identification and Vessel Monitoring System Requirements for the Commercial Bottomfish Fishery in the Commonwealth of the Northern Mariana Islands), into one collection (OMB Control No. 0648-0441).

II. Method of Collection

Automatic.

III. Data

OMB Control Number: 0648-0441.

Form Number: None.

Type of Review: Regular submission (revision of a currently approved information collection).

Affected Public: Business or other for-profit organizations.

Estimated Number of Respondents: 209.

Estimated Time per Response: 4 hours for installation or replacement of a VMS unit; 2 hours for annual maintenance.

Frequency: Annually and on occasion.

Respondent's Obligation: Mandatory.

Estimated Total Annual Burden Hours: 478 (estimated 15 installations per year).

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 21, 2010.
Gwellnar Banks,
Management Analyst, Office of the Chief Information Officer.

[FR Doc. 2010-18205 Filed 7-23-10; 8:45 am]

BILLING CODE 3510-22-P